DEPARTMENT OF ENERGY

Federal Energy Regulatory Commission

[Project No. 1927-140]

PacifiCorp; Notice of Availability of Environmental Assessment

In accordance with the National Environmental Policy Act of 1969 and the Federal Energy Regulatory Commission's (Commission or FERC) regulations, 18 CFR part 380, Commission staff reviewed PacifiCorp's application for an amendment to the license of the North Umpqua Hydroelectric Project No. 1927 and have prepared an Environmental Assessment (EA) for the proposed amendment. The licensee proposes to amend the project license to include the construction, operation, and maintenance of new pumped storage facilities connecting the existing Toketee and Fish Creek developments. The North Umpqua project consists of eight developments located on the North Umpqua River and two of its tributaries, the Clearwater River and Fish Creek, in Douglas County, Oregon and is partially located on lands administered by the U.S. Department of Agriculture's Forest Service and the U.S. Department of the Interior's Bureau of Land Management.

The EA contains Commission staff's analysis of the potential environmental effects of the proposed amendment to the license, and concludes that the proposed amendment, with appropriate environmental protective measures, would not constitute a major federal action that would significantly affect the quality of the human environment.

A copy of the EA may be viewed on the Commission's website at http://www.ferc.gov using the “elibrary” link. Enter the docket number (P-1927) in the docket number field to access the document. For assistance, contact FERC Online Support at FERCOnlineSupport@ferc.gov or toll-free at 1-866-208-3676, or for TTY, (202) 502-8659.

For further information, contact Brian Bartos at 202-502-6679 or Brian.bartos@ferc.gov.

Dated: April 17, 2023.
Kimberly D. Bose,
Secretary.

[FR Doc. 2023-08514 Filed 4-21-23; 8:45 am]

BILLING CODE 6717-01-P